DEPARTMENT OF AGRICULTURE

Rural Business—Cooperative Service

Inviting Applications for Socially-Disadvantaged Groups Grants

AGENCY: Rural Business—Cooperative Service, USDA.

ACTION: Notice of solicitation of applications.

SUMMARY: This Notice announces that the Rural Business-Cooperative Service (Agency) is accepting fiscal year (FY) 2019 applications for the Socially-Disadvantaged Groups Grant (SDGG) program. Enactment of a continuing resolution or an appropriations act may affect the availability or level of funding for this program. The Agency will publish the program funding level on the SDGG website located at http://www.rd.usda.gov/programs-services/socially-disadvantaged-groups-grant. Expenses incurred in developing applications are the responsibility of the applicant.

The purpose of this program is to provide technical assistance to Socially-Disadvantaged Groups in rural areas. Eligible applicants include Cooperatives, Groups of Cooperatives, and Cooperative Development Centers. This program supports Rural Development's (RD) mission of improving the quality of life for rural Americans and commitment to directing resources to those who most need them.

DATES: Completed applications for grants must be submitted on paper or electronically according to the following deadlines:

Paper copies must be postmarked and mailed, shipped, or sent overnight no later than June 7, 2019. You may also hand carry your application to one of our field offices, but it must be received by close of business on the deadline date.

Electronic copies must be received by http://www.grants.gov no later than midnight Eastern Time June 3, 2019. Late applications are not eligible for funding under this Notice and will not be evaluated.

The Application Template provides specific, detailed instructions for each item of a complete application. The Agency emphasizes the importance of including every item and strongly encourages applicants to follow the instructions carefully, using the examples and illustrations in the Application Template. Prior to official submission of applications, applicants may request technical assistance or other application guidance from the Agency, as long as such requests are made prior to May 23, 2019. Agency contact information can be found in Section D of this document.

The Agency will not solicit or consider new scoring or eligibility information that is submitted after the application deadline. The Agency reserves the right to contact applicants to seek clarification on materials contained in the submitted application. See the Application Template for a full discussion of each item. For requirements of completed grant applications, refer to Section D of this document.

ADDRESSES: You should contact the USDA RD State Office (State Office) located in the State where you are headquartered if you have questions. Contact information for State Offices can be found at: http://www.rd.usda.gov/contact-us/state-offices. You are encouraged to contact your State Office well in advance of the application deadline to discuss your project and ask any questions about the application process. Program guidance as well as application templates may be obtained at http://www.rd.usda.gov/programs-services/socially-disadvantaged-groups-grant or by contacting your State Office. If you want to submit an electronic application, follow the instructions for the SDGG funding announcement located at http://www.grants.gov. Please review the Grants.gov website at http://grants.gov/applicants/organization_registration.jsp for instructions on the process of registering your organization as soon as possible to ensure you can meet the electronic application deadline. You are strongly encouraged to file your application early and allow sufficient time to manage any technical issues that may arise. If you want to submit a paper application, send it to the State Office located in the State where you are headquartered. If you are headquartered in Washington, DC, please contact the Grants Division, Cooperative Programs, Rural Business-Cooperative Service, at (202) 690-1374 for guidance on where to submit your application.

FOR FURTHER INFORMATION CONTACT: Grants Division, Cooperative Programs, Rural Business-Cooperative Service, United States Department of Agriculture, 1400 Independence Avenue SW, MS 3253, Room 4208-South, Washington, DC 20250-3250, or call 202-690-1374.

SUPPLEMENTARY INFORMATION:

Preface

The Agency encourages applications that will support recommendations made in the Rural Prosperity Task Force report to help improve life in rural America. https://www.usda.gov/topics/rural/rural-prosperity. Applicants are encouraged to consider projects that provide measurable results in helping rural communities build robust and sustainable economies through strategic investments in infrastructure, partnerships and innovation. Key strategies include:

• Achieving e-Connectivity for rural America

• Developing the Rural Economy

• Harnessing Technological Innovation

• Supporting a Rural Workforce

• Improving Quality of Life

Overview

Federal Agency Name: USDA Rural Business-Cooperative Service.

Funding Opportunity Title: Socially-Disadvantaged Groups Grant.

Announcement Type: Initial Notice.

Catalog of Federal Domestic Assistance Number: 10.871.

Dates: Application Deadline. You must submit your complete application by June 7, 2019 or it will not be considered for funding. Electronic applications must be received by http://www.grants.gov no later than midnight Eastern Time, June 3, 2019, or it will not be considered for funding.

The Application Template provides specific, detailed instructions for each item of a complete application. The Agency emphasizes the importance of including every item and strongly encourages applicants to follow the instructions carefully, using the examples and illustrations in the Application Template. Prior to official submission of applications, applicants may request technical assistance or other application guidance from the Agency, as long as such requests are made prior to May 23, 2019. Agency contact information can be found in Section D of this document.

The Agency will not solicit or consider new scoring or eligibility information that is submitted after the application deadline. The Agency reserves the right to contact applicants to seek clarification on materials contained in the submitted application. See the Application Guide for a full discussion of each item. For requirements of completed grant applications, refer to Section D of this document.

Paperwork Reduction Act

In accordance with the Paperwork Reduction Act, the paperwork burden associated with this Notice has been approved by the Office of Management and Budget (OMB) under OMB Control Number 0570-0052.

A. Program Description

The SDGG program is authorized by section 310B (e)(11) of the Consolidated Farm and Rural Development Act (7 U.S.C. 1932 (e)(11)). The primary objective of the SDGG program is to provide Technical Assistance to Socially-Disadvantaged Groups. Grants are available for Cooperative Development Centers, individual Cooperatives, or Groups of Cooperatives that serve Socially-Disadvantaged Groups and where a majority of their board of directors or governing board is comprised of individuals who are members of Socially-Disadvantaged Groups.

Definitions

The definitions you need to understand are as follows:

Agency—Rural Business-Cooperative Service, an agency of the United States Department of Agriculture (USDA) Rural Development or a successor agency.

Conflict of Interest—A situation in which a person or entity has competing personal, professional, or financial interests that make it difficult for the person or business to act impartially. Federal procurement standards prohibit transactions that involve a real or apparent conflict of interest for owners, employees, officers, agents, or their immediate family members having a financial or other interest in the outcome of the project; or that restrict open and free competition for unrestrained trade. Specifically, project funds may not be used for services or goods going to, or coming from, a person or entity with a real or apparent conflict of interest, including, but not limited to, owner(s) and their immediate family members. Examples of conflicts of interest include using grant funds to pay a member of the applicant's board of directors to provide proposed Technical Assistance to Socially-Disadvantaged Groups; pay a cooperative member to provide proposed Technical Assistance to other members of the same cooperative; and pay an immediate family member of the applicant to provide proposed Technical Assistance to Socially-Disadvantaged Groups.

Cooperative—A business or organization owned by and operated for the benefit of those using its services and where a majority of the board of directors or governing board is comprised of individuals who are members of Socially-Disadvantaged Groups. Profits and earnings generated by the cooperative are distributed among the members, also known as user-owners.

Cooperative Development Center—A nonprofit corporation or institution of higher education operated by the grantee for cooperative or business development and where a majority of the board of directors or governing board is comprised of individuals who are members of Socially-Disadvantaged Groups. It may or may not be an independent legal entity separate from the grantee.

Feasibility Study—An analysis of the economic, market, technical, financial, and management feasibility of a proposed Project.

Group of Cooperatives—A group of Cooperatives whose primary focus is to provide assistance to Socially-Disadvantaged Groups and where a majority of the board of directors or governing board is comprised of individuals who are members of Socially-Disadvantaged Groups. One of the Cooperatives must be designated as the lead entity and have legal authority to contract with the Federal Government.

Operating Cost—The day-to-day expenses of running a business; for example: Utilities, rent on the office space a business occupies, salaries, depreciation, marketing and advertising, and other basic overhead items.

Participant Support Costs—Direct costs for items such as stipends or subsistence allowances, travel allowances, and registration fees paid to or on behalf of participants or trainees (but not employees) in connection with conferences, or training projects.

Project—Includes all activities to be funded by the Socially-Disadvantaged Groups Grant.

Rural and Rural Area—Any area of a State:

(1) Not in a city or town that has a population of more than 50,000 inhabitants, according to the latest decennial census of the United States; and

(2) The contiguous and adjacent urbanized area,

(3) Urbanized areas that are rural in character as defined by 7 U.S.C. 1991 (a) (13).

(4) For the purposes of this definition, cities and towns are incorporated population centers with definite boundaries, local self-government, and legal powers set forth in a charter granted by the State. Notwithstanding any other provision of this paragraph, within the areas of the County of Honolulu, Hawaii, and the Commonwealth of Puerto Rico, the Secretary may designate any part of the areas as a rural area if the Secretary determines that the part is not urban in character, other than any area included in the Honolulu census designated place (CDP) or the San Juan CDP.

Rural Development—A mission area within USDA consisting of the Office of Under Secretary for Rural Development, Rural Business-Cooperative Services, Rural Housing Service, and Rural Utilities Service and any successors.

Socially-Disadvantaged Group—A group whose members have been subjected to racial, ethnic, or gender prejudice because of their identity as members of a group without regard to their individual qualities.

State—Includes each of the 50 states, the Commonwealth of Puerto Rico, the Virgin Islands of the United States, Guam, American Samoa, the Commonwealth of the Northern Mariana Islands, and, as may be determined by the Secretary to be feasible, appropriate and lawful, the Federated States of Micronesia, the Republic of the Marshall Islands and the Republic of Palau.

Technical Assistance—An advisory service performed for the purpose of assisting Cooperatives or groups that want to form Cooperatives such as market research, product and/or service improvement, legal advice and assistance, Feasibility Study, business planning, marketing plan development, and training.

B. Federal Award Information

Type of Award: Competitive Grant.

Fiscal Year Funds: FY2019.

Total Funding: $3,000,000.

Maximum Award: $175,000.

Project Period: 1 year.

Anticipated Award Date: September 30, 2019.

C. Eligibility Information

Applicants must meet all the following eligibility requirements. Applications which fail to meet any of these requirements by the application deadline will be deemed ineligible and will not be evaluated further.

1. Eligible Applicants. Grants may be made to individual Cooperatives, Groups of Cooperatives, and Cooperative Development Centers that serve Socially-Disadvantaged Groups and where a majority of the board of directors or governing board is comprised of individuals who are members of Socially-Disadvantaged Groups. You must be able to verify your legal structure in the State or the tribe under which you are incorporated. Grants may not be made to public bodies or to individuals. Your application must demonstrate that you meet all definition requirements for one of the three eligible applicant types as defined above under Program Description. Federally-recognized tribes have a government-to-government relationship with the United States and may have difficulty meeting the definition requirements. Therefore, it is recommended that they utilize a separate entity, such as a tribally-owned business, tribal authority, tribal non-profit, tribal College or University to apply for SDGG funding that would provide Technical Assistance to members of the tribe. This separate tribal entity must also demonstrate that it meets all definition requirements for one of the three eligible applicant types as defined above.

(a) An applicant is ineligible if they have been debarred or suspended or otherwise excluded from or ineligible for participation in Federal assistance programs under Executive Order 12549, “Debarment and Suspension.” In addition, an applicant will be considered ineligible for a grant due to an outstanding judgment obtained by the U.S. in a Federal Court (other than U.S. Tax Court), is delinquent on the payment of Federal income taxes, or is delinquent on Federal debt. The applicant must certify as part of the application that they do not have an outstanding judgment against them. The Agency will check the Credit Alert Interactive Voice Response System (CAIVRS) to verify this.

(b) Any corporation (i) that has been convicted of a felony criminal violation under any Federal law within the past 24 months or (ii) that has any unpaid Federal tax liability that has been assessed, for which all judicial and administrative remedies have been exhausted or have lapsed, and that is not being paid in a timely manner pursuant to an agreement with the authority responsible for collecting the tax liability, is not eligible for financial assistance provided with funds appropriated by the Consolidated Appropriations Act, 2018 (Pub. L. 115-141) or successor appropriations act, unless a Federal agency has considered suspension or debarment of the corporation and has made a determination that this further action is not necessary to protect the interests of the Government. Applicants will be required to complete Form AD-3030, “Representations Regarding Felony Conviction and Tax Delinquent Status for Corporate Applicants,” if you are a corporation. Institutions of Higher Education are not required to submit this form.

2. Cost Sharing or Matching. No matching funds are required.

3. Other Eligibility Requirements.

Use of Funds: Your application must propose Technical Assistance that will benefit Socially-Disadvantaged Groups. Cooperatives that are recipients of Technical Assistance must have a membership that consists of a majority of members from Socially-Disadvantaged Groups. Please review section D (6) of this Notice, “Funding Restrictions,” carefully.

Project Eligibility: The proposed Project must only serve members of Socially-Disadvantaged Groups in Rural Areas.

Grant Period Eligibility: Your application must include a grant period of one-year or less or it will not be considered for funding. The proposed time frame should begin no earlier than October 1, 2019 and end no later than December 31, 2020. Applications that request funds for a time period ending after December 31, 2020, will not be considered for funding. You should note that the anticipated award date is September 30, 2019. Projects must be completed within the 12-months or less time frame.

The Agency may approve requests to extend the grant period for up to an additional 12 months at its discretion. However, you may not have more than one SDGG during the same grant period. If you extend the period of performance for your current award, you may be deemed ineligible to receive a SDGG in the next grant cycle. Further guidance on grant period extensions will be provided in the award document.

Satisfactory performance eligibility: If you have an existing SDGG award, you must be performing satisfactorily to be considered eligible for a new SDGG award. Satisfactory performance includes being up-to-date on all financial and performance reports as prescribed in the grant award, and current on tasks and timeframes for utilizing grant and matching funds as approved in the work plan and budget. If you have any unspent grant funds on SDGG awards prior to FY 2018, your application will not be considered for funding. If your FY 2018 award has unspent funds of 50 percent or more than what your approved work plan and budget projected at the time of evaluation of your FY 2019 application, your FY 2019 application may not be considered for funding. The Agency will verify the performance status of FY 2018 awards and make a determination after the FY 2019 application period closes.

Completeness Eligibility: Your application must provide all the information requested in Section D (2) of this Notice. Applications lacking sufficient information to determine eligibility and scoring will be considered ineligible.

Duplication of current services. Your application must demonstrate that you are providing services to new customers or new services to current customers. If your work plan and budget is duplicative of your existing award, your application will not be considered for funding. If your work plan and budget is duplicative of a previous or existing RCDG and/or SDGG award, your application will not be considered for funding.

Multiple Grant Eligibility: You may only submit one SDGG grant application each funding cycle.

D. Application and Submission Information

1. Address To Request Application Package

The application template for applying on paper for this funding opportunity is located at http://www.rd.usda.gov/programs-services/socially-disadvantaged-groups-grant. Use of the application template is strongly recommended to assist you with the application process. You may also contact your USDA RD State Office for more information. Contact information for State Offices is located at http://www.rd.usda.gov/contact-us/state-offices. You may also obtain an application package by calling 202-690-1374.

2. Content and Form of Application Submission

You may submit your application in paper form or electronically through Grants.gov. Your application must contain all required information. If you submit in paper form, any forms requiring signatures must include an original signature.

To apply electronically, you must follow the instructions for this funding announcement at http://www.grants.gov. Please note that we cannot accept emailed or faxed applications.

You can locate the Grants.gov downloadable application package for this program by using a keyword, the program name, or the Catalog of Federal Domestic Assistance Number for this program.

When you enter the Grants.gov website, you will find information about applying electronically through the site, as well as the hours of operation.

To use Grants.gov, you must already have a DUNS number and you must also be registered and maintain registration in SAM. We strongly recommend that you do not wait until the application deadline date to begin the application process through Grants.gov.

You must submit all application documents electronically through Grants.gov. Applications must include electronic signatures. Original signatures may be required if funds are awarded.

After applying electronically through Grants.gov, you will receive an automatic acknowledgement from Grants.gov that contains a Grants.gov tracking number.

If you want to submit a paper application, send it to the State Office located in the State where you are headquartered. You can find State Office contact information at: http://www.rd.usda.gov/contact-us/state-offices.

Your application must also contain the following required forms and proposal elements:

(a) Standard Form SF-424, “Application for Federal Assistance,” to include your DUNS number and SAM Commercial and Government Entity (CAGE) code and expiration date. If you do not include your DUNS number in your application, it will not be considered for funding.

(b) Form SF-424A, “Budget Information-Non-Construction Programs.” This form must be completed and submitted as part of the application package.

(c) Form SF-424B, “Assurances—Non-Construction Programs.” This form must be completed, signed, and submitted as part of the application package.

(d) Form AD-3030, “Representations Regarding Felony Conviction and Tax Delinquent Status for Corporate Applicants,” if you are a corporation. A corporation is any entity that has filed articles of incorporation in one of the 50 States, the District of Columbia, the Federated States of Micronesia, the Republic of Palau, and the Republic of the Marshall Islands, or the various territories of the United States including American Samoa, Guam, Midway Islands, the Commonwealth of the Northern Mariana Islands, Puerto Rico, or the U.S. Virgin Islands. Corporations include both for profit and non-profit entities. Institutions of higher education are not required to submit this form.

(e) You must certify that there are no current outstanding Federal judgments against your property and that you will not use grant funds to pay for any judgment obtained by the United States. You must also certify that you are not delinquent on the payment of Federal income taxes, or any Federal debt. There is no standard form to complete, but to satisfy the Certification requirement, you should include this statement in your application: “[INSERT NAME OF APPLICANT] certifies that the United States has not obtained an unsatisfied judgment against its property, is not delinquent on the payment of Federal income taxes, or any Federal debt, and will not use grant funds to pay any judgments obtained by the United States.” A separate signature is not required.

(f) Table of Contents. Your application must contain a detailed Table of Contents (TOC). The TOC must include page numbers for each part of the application. Page numbers should begin immediately following the TOC.

(g) Executive Summary. A summary of the proposal, not to exceed one page, must briefly describe the Project, tasks to be completed, and other relevant information that provides a general overview of the Project.

(h) Eligibility Discussion. A detailed discussion, not to exceed four pages, must describe how you meet the following requirements:

(1) Applicant Eligibility. You must describe how you meet the definition of a Cooperative, Group of Cooperatives, or Cooperative Development Center. Your application must show that your individual Cooperative, Group of Cooperatives or Cooperative Development Center serves Socially-Disadvantaged Groups and a majority of the board of directors or governing board is comprised of individuals who are members of Socially-Disadvantaged Groups. Your application must include a list of your board of directors/governing board and the percentage of board of directors/governing board that are members of Socially-Disadvantaged Groups. NOTE: Your application will not be considered for funding if you fail to show that a majority of your board of directors/governing board is comprised of individuals who are members of Socially-Disadvantaged Groups.

You must verify your incorporation and status in the State that you have applied by providing the State's or Tribe's Certificate of Good Standing and your Articles of Incorporation. You may also submit your Bylaws if they provide additional information not included in your Articles of Incorporation that will help verify your legal status. If applying as an institution of higher education, documentation verifying your legal status is not required; however, you must demonstrate that you qualify as an Institution of Higher Education as defined at 20 U.S.C. 1001. You must apply as only one type of applicant. The requested verification documents should be included in Appendix A of your application. If they are not included, your application will not be considered for funding.

(2) Use of Funds. You must provide a brief discussion on how the proposed Project activities meet the definition of Technical Assistance and identify the Socially-Disadvantaged Groups that will be assisted.

(3) Project Area. You must provide specific information that details the location of the Project area and explain how the area meets the definition of “Rural Area.”

(4) Grant Period. You must provide a time frame for the proposed Project and discuss how the Project will be completed within that time frame. You must have a time frame of one year or less.

(5) Indirect Costs. Please indicate if you have a Negotiated Indirect Cost Rate Agreement (NICRA), and if so, the rate. Your negotiated indirect cost rate approval does not need to be included in your application, but you will be required to provide it if a grant is awarded. Per 2 CFR 200.414(f), if a negotiated rate does not exit, then applicants must use the de minimis rate of 10% in the project budget and workplan. Approval for indirect costs that are requested in an application without an approved indirect cost rate agreement is at the discretion of the Agency.

(i) Scoring Criteria. Each of the scoring criteria in this Notice must be addressed in narrative form, with a maximum of three pages for each individual scoring criterion, unless otherwise specified. Failure to address each scoring criteria will result in the application being determined ineligible.

(j) The Agency has established annual performance evaluation measures to evaluate the SDGG program. You must provide estimates on the following performance evaluation measures as part of your narrative:

• Number of cooperatives assisted; and

• Number of socially disadvantaged groups assisted.

3. DUNS Number and SAM

To be eligible (unless you are excepted under 2 CFR 25.110(b), (c) or (d)), you are required to:

(a) Provide a valid DUNS number in your application, which can be obtained at no cost via a toll-free request line at (866) 705-5711;

(b) Register in SAM before submitting your application. You may register in SAM at no cost at https://www.sam.gov/portal/public/SAM/. You must provide your SAM CAGE Code and expiration date or evidence that you have begun the SAM registration process at time of application; and

(c) Continue to maintain an active SAM registration with current information at all times during which you have an active Federal award or an application or plan under consideration by a Federal awarding agency.

If you have not fully complied with all applicable DUNS and SAM requirements, the Agency may determine that the applicant is not qualified to receive a Federal award and the Agency may use that determination as a basis for making an award to another applicant. Please refer to Section F. 2 for additional submission requirements that apply to grantees selected for this program.

4. Submission Dates and Times

Application Deadline Date: June 7, 2019.

Explanation of Deadlines: Paper applications must be postmarked and mailed, shipped, or sent overnight by June 7, 2019, or it will not be considered for funding. The Agency will determine whether your application is late based on the date shown on the postmark or shipping invoice. You may also hand carry your application to one of our field offices, but it must be received by close of business on the deadline date. If the due date falls on a Saturday, Sunday, or Federal holiday, the reporting package is due the next business day. Late applications are not eligible for funding and will not be evaluated further.

Electronic applications must be RECEIVED by http://www.grants.gov by midnight Eastern Time May 31, 2019, to be eligible for funding. Please review the Grants.gov website at http://grants.gov/applicants/organization_registration.jsp for instructions on the process of registering your organization as soon as possible to ensure you can meet the electronic application deadline. Grants.gov will not accept applications submitted after the deadline.

5. Intergovernmental Review

Executive Order (E.O.) 12372, “Intergovernmental Review of Federal Programs,” applies to this program. This E.O. requires that Federal agencies provide opportunities for consultation on proposed assistance with State and local governments. Many States have established a Single Point of Contact (SPOC) to facilitate this consultation. For a list of States that maintain a SPOC, please see the White House website: https://www.whitehouse.gov/wp-content/uploads/2017/11/SPOC-Feb.-2018.pdf.

If your State has a SPOC, you may submit a copy of the application directly for review. Any comments obtained through the SPOC must be provided to your State Office for consideration as part of your application. If your State has not established a SPOC, or if you do not want to submit a copy of the application, our State Offices will submit your application to the SPOC or other appropriate agency or agencies.

6. Funding Restrictions

Grant funds must be used for Technical Assistance. No funds made available under this solicitation shall be used to:

(a) Plan, repair, rehabilitate, acquire, or construct a building or facility, including a processing facility;

(b) Purchase, rent, or install fixed equipment, including processing equipment;

(c) Purchase vehicles, including boats;

(d) Pay for the preparation of the grant application;

(e) Pay expenses not directly related to the funded Project;

(f) Fund political or lobbying activities;

(g) To fund any activities considered unallowable by the applicable grant cost principles, including 2 CFR part 200, subpart E and the Federal Acquisition Regulation;

(h) Fund architectural or engineering design work for a specific physical facility;

(i) Fund any direct expenses for the production of any commodity or product to which value will be added, including seed, rootstock, labor for harvesting the crop, and delivery of the commodity to a processing facility;

(j) Fund research and development;

(k) Purchase land;

(l) Duplicate current activities or activities paid for by other Federal grant programs;

(m) Pay costs of the Project incurred prior to the date of grant approval;

(n) Pay for assistance to any private business enterprise that does not have at least 51 percent ownership by those who are either citizens of the United States or reside in the United States after being legally admitted for permanent residence;

(o) Pay any judgment or debt owed to the United States;

(p) Pay any Operating Costs of the Cooperative, Group of Cooperatives, or Cooperative Development Center not directly related to the Project;

(q) Pay expenses for applicant employee training or professional development not directly related to the Project; or

(r) Pay for any goods or services from a person who has a Conflict of Interest with the grantee.

(s) Pay for Technical Assistance provided to a Cooperative that does not have a membership that consists of a majority of members from Socially-Disadvantaged Groups.

In addition, your application will not be considered for funding if it does any of the following:

• Requests more than the maximum grant amount;

• Proposes ineligible costs that equal more than 10 percent of total grant funds requested; or

• Proposes Participant Support Costs that equal more than 10 percent of total grant funds requested.

We will consider your application for funding if it includes ineligible costs of 10 percent or less of total grant funds requested, if it is determined eligible otherwise. However, if your application is successful, those ineligible costs must be removed and replaced with eligible costs before the Agency will make the grant award or the amount of the grant award will be reduced accordingly. If we cannot determine the percentage of ineligible costs, your application will not be considered for funding.

7. Other Submission Requirements

(a) You should not submit your application in more than one format. You must choose whether to submit your application in paper or electronically. Applications submitted in paper must be mailed or hand-delivered to the State Office located in the State where you are headquartered. You can find State Office contact information at: http://www.rd.usda.gov/contact-us/state-offices. To apply electronically, you must follow the instructions for this funding announcement at http://www.grants.gov. A password is not required to access the website.

(b) National Environmental Policy Act. This Notice has been reviewed in accordance with 7 CFR part 1970, “Environmental Policies and Procedures.” We have determined that an Environmental Impact Statement is not required because the issuance of regulations and instructions, as well as amendments to them, describing administrative and financial procedures for processing, approving, and implementing the Agency's financial programs is categorically excluded in the Agency's National Environmental Policy Act (NEPA) regulation found at 7 CFR 1970.53(f). We have determined that this Notice does not constitute a major Federal action significantly affecting the quality of the human environment.

The Agency will review each grant application to determine its compliance with 7 CFR part 1970. The applicant may be asked to provide additional information or documentation to assist the Agency with this determination.

(c) Civil Rights Compliance Requirements. All grants made under this Notice are subject to Title VI of the Civil Rights Act of 1964 as required by the USDA (7 CFR part 15, subpart A) and Section 504 of the Rehabilitation Act of 1973.

E. Application Review Information

The State Offices will review applications to determine if they are eligible for assistance based on requirements in this Notice, and other applicable Federal regulations. If determined eligible, your application will be scored by a panel of USDA employees in accordance with the point allocation specified in this Notice. A recommendation will be submitted to the Administrator to fund applications in highest ranking order. Applications that cannot be fully funded may be offered partial funding at the Agency's discretion.

1. Scoring Criteria

All eligible and complete applications will be evaluated based on the following criteria. Evaluators will base scores only on the information provided or cross-referenced by page number in each individual evaluation criterion. SDGG is a competitive program, so you will receive scores based on the quality of your responses. Simply addressing the criteria will not guarantee higher scores. The total points possible for the criteria are 105.

(a) Technical Assistance (maximum score of 25 points). A panel of USDA employees will evaluate your application to determine your ability to assess the needs of and provide effective Technical Assistance to Socially-Disadvantaged Groups. You must discuss the:

(1) Needs of the Socially-Disadvantaged Groups to be assisted and explain how those needs were determined,

(2) Proposed Technical Assistance to be provided to the Socially-Disadvantaged Groups; and

(3) Expected outcomes of the proposed Technical Assistance, including how Socially-Disadvantaged Groups will benefit from participating in the Project. You will score higher on this criterion if you provide examples of past projects that demonstrate successful outcomes in identifying specific needs and providing Technical Assistance to Socially-Disadvantaged Groups.

(b) Work Plan/Budget (maximum of 25 points)—Six-page limit. Your work plan must provide specific and detailed descriptions of the tasks and the key project personnel that will accomplish the project's goals. Budget will be reviewed for completeness. You must list what tasks are to be done, when it will be done, who will do it, and how much it will cost. Reviewers must be able to understand what is being proposed and how the grant funds will be spent. The budget must be a detailed breakdown of estimated costs. These costs should be allocated to each of the tasks to be undertaken.

A panel of USDA employees will evaluate your work plan for detailed actions and an accompanying timetable for implementing the proposal. Clear, logical, realistic, and efficient plans that allocate costs to specific tasks using applicable budget object class categories provided on the Form SF-424A will result in a higher score. You must discuss at a minimum:

(i) Specific tasks to be completed using grant funds;

(ii) How customers will be identified;

(iii) Key personnel and what tasks they are undertaking, and

(iv) The evaluation methods to be used to determine the success of specific tasks and overall project objectives. Please provide qualitative methods of evaluation. For example, evaluation methods should go beyond quantitative measurements of completing surveys or number of evaluations, such as discussion of evaluation methods per task.

(c) Experience (maximum score of 25 points). A panel of USDA employees will evaluate your experience, commitment and availability for identified staff or consultants in providing Technical Assistance, as defined in this Notice. You must describe the Technical Assistance experience for each identified staff member or consultant, as well as years of experience in providing that assistance. You must also discuss the commitment and the availability of identified staff, consultants, or other professionals to be hired for the project—especially those who may be consulting on multiple SDGG/RCDG projects. If staff or consultants have not been selected at the time of application, you must provide specific descriptions of the qualifications required for the positions to be filled. In addition, resumes for each individual staff member or consultant must be included as an attachment in Appendix B. The attachments will not count toward the maximum page total. We will compare the described experience in this section and in the resumes to the work plan to determine relevance of the experience. Applications that do not include the attached resumes will not be considered for funding.

Applications that demonstrate strong credentials, education, capabilities, experience and availability of Project personnel that will contribute to a high likelihood of Project success will receive more points than those that demonstrate less potential for success in these areas.

Points will be awarded as follows:

(i) 0 points will be awarded if you do not substantively address the criterion.

(ii) 1-9 points will be awarded if qualifications and experience of some, but not all, staff is addressed and/or if necessary qualifications of unfilled positions are not provided.

(iii) 10-14 points will be awarded if (ii) is met, plus all project personnel are identified but do not demonstrate qualifications or experience relevant to the project.

(iv) 15-19 will be awarded if (ii) and (iii) are met, plus most, but not all, key personnel demonstrate strong credentials and/or experience, and availability indicating a reasonable likelihood of success.

(v) 20-25 points will be awarded if (ii)-(iv) are met, plus all personnel demonstrate strong, relevant credentials or experience, and availability indicating a high likelihood of project success.

(d) Commitment (maximum of 10 points). A panel of USDA employees will evaluate your commitment to providing Technical Assistance to Socially-Disadvantaged Groups in Rural Areas. You must list the number and location of Socially-Disadvantaged Groups that will directly benefit from the assistance provided. You must also define and describe the underserved and economically distressed areas within your service area and provide current and relevant statistics that support your description of the service area. Projects located in persistent poverty counties as defined by USDA's Economic Research Service will score higher on this factor.

(e) Local support (maximum of 10 points). A panel of USDA employees will evaluate your application for local support of the Technical Assistance activities. Your discussion on local support should include previous and/or expected local support and plans for coordinating with other developmental organizations in the proposed service area or with tribal, State and local government institutions. You will score higher if you demonstrate strong support from potential beneficiaries and other developmental organizations. You may also submit a maximum of 10 letters of support or intent to coordinate with the application to verify your discussion.

Points will be awarded as follows:

(i) 0 points are awarded if you do not adequately address this criterion.

(ii) 1-5 points are awarded if you demonstrate support from potential beneficiaries and other developmental organizations in your discussion but do not provide letters of support.

(iii) Additional 1 point is awarded if you provide 2-3 support letters that show support from potential beneficiaries and/or support from local organizations.

(iv) Additional 2 points are awarded if you provide 4-5 support letters that show support from potential beneficiaries and/or support from local organizations.

(v) Additional 3 points are awarded if you provide 6-7 support letters that show support from potential beneficiaries and/or support from local organizations.

(vi) Additional 4 points are awarded if you provide 8-9 support letters that show support from potential beneficiaries and/or support from local organizations.

(vii) Additional 5 points are awarded if you provide 10 support letters that show support from potential beneficiaries and/or support from local organizations.

You may submit a maximum of 10 letters of support. Support letters should be signed and dated (after the Notice publication date,) and come from potential beneficiaries and other local organizations. Letters received from Congressional members and Technical Assistance providers will not be included in the count of support letters received. Additionally, identical form letters signed by multiple potential beneficiaries and/or local organizations will not be included in the count of support letters received. Support letters should be included as an attachment to the application in Appendix C and will not count against the maximum page total. Additional letters from industry groups, commodity groups, Congressional members, and similar organizations should be referenced, but not included in the application package. When referencing these letters, provide the name of the organization, date of the letter, the nature of the support, and the name and title of the person signing the letter.

(f) Administrator Discretionary Points (maximum of 10 points). The Administrator may choose to award up to 10 points to an eligible applicant who has never previously been awarded an SDGG grant; and whose workplan and budget seeks to help rural communities build robust and sustainable economies through strategic investments in infrastructure, partnerships and innovation. These points are not guaranteed if requested. Eligible applicants who want to be considered for discretionary points must discuss how their workplan and budget supports one or more of the five following key strategies:

Achieving e-Connectivity for Rural America;

Improving Quality of Life;

Supporting a Rural Workforce;

Harnessing Technological Innovation; and

Economic Development

2. Review and Selection Process

The State Offices will review applications to determine if they are eligible for assistance based on requirements in this Notice, and other applicable Federal regulations. If determined eligible, your application will be scored by a panel of USDA employees in accordance with the point allocation specified in this Notice. The review panel will convene to reach a consensus on the scores for each of the eligible applications. The Administrator may choose to award up to 10 Administrator priority points based on criterion (f) in section E.1. of this Notice. These points will be added to the cumulative score for a total possible score of 105. Applications will be funded in highest ranking order until the funding limitation has been reached. Applications that cannot be fully funded may be offered partial funding at the Agency's discretion. If your application is ranked and not funded, it will not be carried forward into the next competition.

F. Federal Award Administration Information

1. Federal Award Notices

If you are selected for funding, you will receive a signed notice of Federal award by postal mail, containing instructions on requirements necessary to proceed with execution and performance of the award.

If you are not selected for funding, you will be notified in writing via postal mail and informed of any review and appeal rights. Funding of successfully appealed applications will be limited to available FY 2019 funding.

2. Administrative and National Policy Requirements

Additional requirements that apply to grantees selected for this program can be found in 2 CFR parts 200, 215, 400, 415, 417, 418, and 421. All recipients of Federal financial assistance are required to report information about first-tier subawards and executive compensation (See 2 CFR part 170). You will be required to have the necessary processes and systems in place to comply with the Federal Funding Accountability and Transparency Act reporting requirements (See 2 CFR 170.200(b), unless you are exempt under 2 CFR 170.110(b)).

The following additional requirements apply to grantees selected for this program:

• Agency approved Grant Agreement.

• Letter of Conditions.

• Form RD 1940-1, “Request for Obligation of Funds.”

• Form RD 1942-46, “Letter of Intent to Meet Conditions.”

• Form AD-1047, “Certification Regarding Debarment, Suspension, and Other Responsibility Matters—Primary Covered Transactions.”

• Form AD-1048, “Certification Regarding Debarment, Suspension, Ineligibility and Voluntary Exclusion—Lower Tier Covered Transactions.”

• Form AD-1049, “Certification Regarding a Drug-Free Workplace Requirement (Grants).”

• Form AD-3031, “Assurance Regarding Felony Conviction or Tax Delinquent Status for Corporate Applicants.” Must be signed by corporate applicants who receive an award under this Notice.

• Form RD 400-4, “Assurance Agreement.” By signing Form 400-4, Assurance Agreement recipients affirm that they will operate the program free from discrimination. The recipient will maintain the race and ethnic data on the board members and beneficiaries of the program. The Recipient will provide alternative forms of communication to persons with limited English proficiency. The Agency will conduct Civil Rights Compliance Reviews on recipients to identify the collection of racial and ethnic data on Program beneficiaries. In addition, the Compliance review will ensure that equal access to the Program benefits and activities are provided for persons with disabilities and language barriers.

• SF LLL, “Disclosure of Lobbying Activities,” if applicable.

3. Reporting

After grant approval and through grant completion, you will be required to provide the following:

a. A SF-425, “Federal Financial Report,” and a project performance report will be required on a semiannual basis (due 30 working days after end of the semiannual period). The project performance reports shall include a comparison of actual accomplishments to the objectives established for that period;

b. Reasons why established objectives were not met, if applicable;

c. Reasons for any problems, delays, or adverse conditions, if any, which have affected or will affect attainment of overall project objectives, prevent meeting time schedules or objectives, or preclude the attainment of particular objectives during established time periods. This disclosure shall be accompanied by a statement of the action taken or planned to resolve the situation; and

d. Objectives and timetable established for the next reporting period.

e. Provide a final project and financial status report within 90 days after the expiration or termination of the grant.

f. Provide outcome project performance reports and final deliverables.

G. Agency Contacts

For general questions about this announcement and for program Technical Assistance, please contact the appropriate State Office as indicated in the ADDRESSES section of this Notice. You may also contact National Office staff: Susan Horst, SDGG Program Lead, Susan.Horst@usda.gov, or call 202-690-1374.

H. Other Information

Non Discrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at How to File a Program Discrimination Complaint and at any USDA office or write a letter addressed to USDA and provide in the letter all of the information requested in the form. To request a copy of the complaint form, call (866) 632-9992. Submit your completed form or letter to USDA by:

(1) mail: U.S. Department of Agriculture, Office of the Assistant Secretary for Civil Rights, 1400 Independence Avenue SW, Washington, DC 20250-9410;

(2) fax: (202) 690-7442; or

(3) email: program.intake@usda.gov.

Bette B. Brand,
Administrator, Rural Business-Cooperative Service.

[FR Doc. 2019-06780 Filed 4-5-19; 8:45 am]

BILLING CODE 3410-XY-P